DEPARTMENT OF COMMERCE

National Oceanic and Atmospheric Administration

[I.D. 061803G]

Proposed Information Collection; Comment Request; Southeast Region Logbook Family of Forms

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 25, 2003.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to John Poffenberger at 305-361-4263, ext. 263, or at John.Poffenberger@noaa.gov.

SUPPLEMENTARY INFORMATION:

I. Abstract

Participants in most Federally-managed fisheries in the Southeast Region are currently required to keep and submit catch and effort logbooks from their fishing trips. A subset of these vessels also provide information on the species and quantities of fish, shellfish, marine turtles, and marine mammals that are caught and discarded or have interacted with the vessel's fishing gear. Participants in the Atlantic snapper-grouper and mackerel fisheries are required to submit information about dockside prices, trip operating costs, and annual fixed costs.

The data are used for scientific analyses that support critical conservation and management decisions made by national and international fishery management organizations. Interaction reports are needed for fishery management planning and to help protect endangered species and marine mammals. Price and cost data will be used in analyses of the economic effects of proposed regulations.

II. Method of Collection

The information is submitted on paper forms. Logbooks are completed daily and submitted on either a by trip or monthly basis, depending on the fishery. Fixed costs are submitted on an annual basis. Other information is submitted on a trip basis.

III. Data

OMB Number: 0648-0016.

Form Number: None.

Type of Review: Regular submission.

Affected Public: Business or other for-profit organizations; individuals or households.

Estimated Number of Respondents: 3,925.

Estimated Time Per Response: 20 minutes for a catch and effort report for the Columbian waters fishery; 10 minutes for logbook trip reports in other fisheries; 2 minutes for a negative catch and effort or logbook trip report; 12 minutes for a headboat logbook in the Gulf of Mexico reef fish and coastal migratory pelagic fisheries and the South Atlantic snapper-grouper fishery; 15 minutes for an aquacultured live rock logbook report; 10 minutes for a trip operating cost survey in the snapper-grouper and mackerel fisheries; 30 minutes for an annual fixed-cost economic surveys in the same fisheries; 10 minutes for cost data in the swordfish fishery; and 15 minutes for a discard and marine mammal/bird/sea turtle interaction report from the 20% sample of fishermen selected.

Estimated Total Annual Burden Hours: 14,086.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 17, 2003.
Gwellnar Banks,
Management Analyst, Office of the Chief Information Officer.

[FR Doc. 03-15948 Filed 6-23-03; 8:45 am]

BILLING CODE 3510-22-S